DEPARTMENT OF COMMERCE

Foreign-Trade Zones Board

[Order No. 1120]

GRANT OF AUTHORITY FOR SUBZONE STATUS; ASO Corporation (Adhesive Bandages); Sarasota County, Florida

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board (the Board) to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Manatee County Port Authority, grantee of Foreign-Trade Zone 169, has made application to the Board for authority to establish special-purpose subzone status at the adhesive bandage facility of Aso Corporation located in Sarasota County, Florida, (FTZ Docket 24-98, filed 5-05-98);

Whereas, notice inviting public comment has been given in the Federal Register (63 FR 26776, 5/14/98 and 65 FR 49536, 8/14/00); and,

Whereas, the Board adopts the findings and recommendations of the examiner's report, and finds that the requirements of the FTZ Act and the Board's regulations would be satisfied, and that approval of the application would be in the public interest if approval were subject to a time limit;

Now, therefore, the Board hereby grants authority for subzone status at the adhesive bandage facility of Aso Corporation, located in Sarasota County, Florida, (Subzone 169A), at the location described in the application, for an initial period of four years (of activation), subject to extension upon review, and subject to the FTZ Act and the Board's regulations, including § 400.28.

Signed at Washington, DC, this 18th day of September 2000.
Troy H. Cribb,
Acting Assistant Secretary of Commerce for Import Administration, Alternate Chairman, Foreign-Trade Zones Board.

Dennis Puccinelli,
Executive Secretary.

[FR Doc. 00-25085 Filed 9-28-00; 8:45 am]

BILLING CODE 3510-DS-P